NATIONAL SCIENCE FOUNDATION

Notice of Permit Modification Issued Under the Antarctic Conservation Act of 1978

AGENCY: National Science Foundation.

ACTION: Notice of permit modification issued under the Antarctic Conservation Act of 1978, Public Law 95-541.

SUMMARY: The National Science Foundation (NSF) is required to publish notice of permit modifications issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On September 16, 2011, the National Science Foundation published a notice in the Federal Register of a permit application received. The permit was issued on October 17, 2011 to:

Paul Morin, Permit No. 2012-007

Nadene G. Kennedy,
Permit Officer.

[FR Doc. 2011-27323 Filed 10-21-11; 8:45 am]

BILLING CODE 7555-01-P